DEPARTMENT OF THE INTERIOR

Bureau of Land Management

[LLUT980300-L10400000-PH0000-24-1A]

Notice of Utah's Resource Advisory Council (RAC)/Recreation Resource Advisory Council (RRAC) Meeting

AGENCY: Bureau of Land Management, Interior.

ACTION: Notice.

SUMMARY: In accordance with the Federal Land Policy and Management Act and the Federal Advisory Committee Act of 1972, the Department of the Interior, Bureau of Land Management's (BLM) Utah Resource Advisory Council (RAC)/Recreation Resource Advisory Council (RRAC) will meet as indicated below.

DATES: The Utah RAC will meet Tuesday, August 7, 2012, (1:00 p.m.-5:00 p.m.) and the RAC/RRAC will meet Wednesday, August 8, 2012, (7:30 a.m.-2:45 p.m.) in St. George, Utah.

ADDRESSES: The RAC/RRAC will meet at the Hilton Garden Inn (Indigo meeting room), 1731 South Convention Center Drive, St. George, Utah.

FOR FURTHER INFORMATION CONTACT: Sherry Foot, Special Programs Coordinator, Utah State Office, Bureau of Land Management, P.O. Box 45155, Salt Lake City, Utah 84145-0155; phone (801) 539-4195.

SUPPLEMENTARY INFORMATION: The 15-member Council advises the Secretary of the Interior, through the BLM, on a variety of planning and management issues associated with public land management in Utah.

Planned agenda topics include the status of RS 2477 road issues; updates and the RAC's input on the Cedar City/St. George Resource Management Plan (RMP); progress report on the implementation of the instruction memoranda and the impact to the grazing community on sage grouse; the RAC's feedback on the Lake Mountain urban interface conflict; updates, progress, challenges, and lessons learned on the Washington County lands bill; proposal to increase campground recreation fees in the Moab Field Office; and a field tour of the Northern Transportation Route around St. George.

August 8, from 7:30 a.m.-12:00 p.m., the RAC will be touring the Red Cliffs National Conservation Area (NCA) to look at the area where alternative alignments for the Northern Transportation Route have been proposed to BLM by Washington County to be evaluated in the RMP being developed for the NCAs. All meetings are open to the public; however, transportation, lodging, and meals are the responsibility of the participating public. Appropriate vehicles for bladed and two-tracked roads are recommended. Comfortable walking shoes, sunscreen, hats, sunglasses, and weather-appropriate dress are also encouraged. Participants will meet in the lobby of the Hilton Garden Inn at 7:15 a.m. for departure at 7:30 a.m. The tour will conclude at noon with travel back to the Hilton Garden Inn prior to 12:30 p.m. On August 8, a half-hour public comment period where the public may address the Council is scheduled to begin at 1:30 p.m. Written comments may be sent to the BLM address listed above.

Juan Palma,
State Director.

[FR Doc. 2012-17107 Filed 7-12-12; 8:45 am]

BILLING CODE 4310-DQ-P